DEPARTMENT OF COMMERCE

Patent and Trademark Office

Trademark Petitions

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before April 23, 2012.

ADDRESSES: You may submit comments by any of the following methods:

• Email: InformationCollection@uspto.gov. Include “0651-0061 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to the attention of Catherine Cain, Attorney Advisor, Office of the Commissioner for Trademarks, United States Patent and Trademark Office, P.O. Box 1451, Alexandria, VA 22313-1451, by telephone at 571-272-8946, or by email to catherine.cain@uspto.gov, with “Paperwork” in the subject line. Additional information about this collection is also available at http://www.reginfo.gov under “Information Collection Review.”

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses that use or intend to use such marks in commerce may file an application to register their marks with the USPTO. Individuals and businesses may also submit various communications to the USPTO, including letters of protest, requests to make special, responses to petition inquiry letters, petitions to make special, requests to restore a filing date, and requests for reinstatement.

A letter of protest is an informal procedure whereby third parties who object to the registration of a mark in a pending application may bring to the attention of the USPTO evidence bearing on the registrability of a mark. A letter of protest must identify the application being protested and the proposed grounds for refusing registration and include relevant evidence to support the protest.

A request to make special may be submitted where an applicant's prior registration was cancelled due to the inadvertent failure to file a post registration maintenance document and should include an explanation of why special action is appropriate.

A response to a petition inquiry letter is submitted by a petitioner who is responding to a notice of deficiency that the USPTO issued after receiving an incomplete Petition to the Director. A petition may be considered incomplete if, for example, it does not include the fee required by 37 CFR 2.6 or if it includes an unverified assertion that is not supported by evidence.

The USPTO generally examines applications in the order in which they are received. A petition to make special is a request by the applicant to advance the initial examination of an application out of its regular order.

A request to restore a filing date is submitted by an applicant who previously filed an application that was denied a filing date. The request must include evidence showing that the applicant is entitled to the earlier filing date.

If an applicant has proof that an application was inadvertently abandoned due to a USPTO error, an applicant may file a request to reinstate the application instead of a formal petition to revive. To support such a request, the applicant must include clear evidence of the USPTO error.

The information in this collection can be submitted in paper format or electronically through the Trademark Electronic Application System (TEAS). The USPTO has developed a TEAS Global Form format that permits the agency to collect information electronically for which a TEAS form with dedicated data fields is not yet available. With the introduction of the TEAS Global Forms, the information in this collection can be collected in paper format or electronically using the TEAS Global Forms.

As part of this renewal the USPTO proposes to add four TEAS Global Forms—for responses to petition inquiry letter, petitions to make special, requests to restore filing date, and requests for reinstatement—into the collection. The paper equivalents for the response to petition inquiry letter, petition to make special, request to restore filing date, and request for reinstatement will be added as well.

Although this collection does have electronic forms, there are no official paper forms for these filings. Individuals and businesses can submit their own paper forms following the USPTO's rules and guidelines to ensure that all of the necessary information is provided.

II. Method of Collection

Electronically, if applicants submit the information using the new TEAS Global Forms. By mail, facsimile, or hand delivery if applicants choose to submit the information in paper form.

III. Data

OMB Number: 0651-0061.

Form Number(s): None.

Type of Review: Revision of a currently approved collection.

Affected Public: Primarily businesses or other for-profit organizations.

Estimated Number of Respondents: 2,135 responses per year.

Estimated Time per Response: The USPTO estimates that it will take the public approximately 30 minutes (0.50 hours) to one hour to gather the necessary information, create the document, and submit the completed request, depending upon whether the information is submitted electronically or on paper.

Estimated Total Annual Respondent Burden Hours: 1,689 hours.

Estimated Total Annual Respondent Cost Burden: $574,260. The USPTO expects that the information in this collection will be prepared by attorneys at an estimated rate of $340 per hour. Therefore, the USPTO estimates that the respondent cost burden for this collection will be approximately $574,260 per year.

Item | Estimated time for response | Estimated annual responses | Estimated annual burden hours
Letter of Protest (TEAS Global) | 50 minutes | 187 | 155
Letter of Protest (Paper) | 1 hour | 1,063 | 1,063
Request to Make Special (TEAS Global) | 30 minutes | 90 | 45
Request to Make Special (Paper) | 40 minutes | 10 | 7
Response to Petition to Director Inquiry Letter (TEAS Global) | 30 minutes | 19 | 10
Response to Petition to Director Inquiry Letter (Paper) | 40 minutes | 5 | 3
Petition to Make Special (TEAS Global) | 30 minutes | 135 | 68
Petition to Make Special (Paper) | 40 minutes | 15 | 10
Request to Restore Filing Date (TEAS Global) | 30 minutes | 1 | 1
Request to Restore Filing Date (Paper) | 40 minutes | 10 | 7
Request for Reinstatement (TEAS Global) | 30 minutes | 480 | 240
Request for Reinstatement (Paper) | 40 minutes | 120 | 80
Totals |  | 2,135 | 1,689

Estimated Total Annual (Non-hour) Respondent Cost Burden: $15,550. This collection has annual (non-hour) costs in the form of postage costs and filing fees.

The public may submit the non-electronic information in this collection to the USPTO by mail through the United States Postal Service. The USPTO estimates that the majority of submissions for these paper forms are made via first-class mail at a cost of 45 cents per submission. The total estimated postage cost for this collection is $550 (1,223 paper submissions × $0.45).

The only item in this information collection with a filing fee is the Petition to Make Special, with a filing fee of $100. The total estimated filing fee cost for this collection is $15,000.

Item | Responses | Filing fee ($) | Total non-hour cost burden (a) × (b)
| (a) | (b) | (c)
Petition to Make Special (TEAS Global) | 135 | $100.00 | $13,500.00
Petition to Make Special (Paper) | 15 | 100.00 | 1,500.00
Total | 150 |  | 15,000.00

Therefore, the total estimated (non-hour) respondent cost burden in postage costs and filing fees for this information collection is $15,550.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: February 16, 2012.
Susan K. Fawcett,
Records Officer, USPTO, Office of the Chief Information Officer.

[FR Doc. 2012-4085 Filed 2-21-12; 8:45 am]

BILLING CODE 3510-16-P